DEPARTMENT OF HOUSING AND URBAN DEVELOPMENT

[Docket No. FR-6113-N-02]

Announcement of Funding Awards

AGENCY: Office of Strategic Planning and Management, HUD.

ACTION: Notice.

SUMMARY: In accordance with the Department of Housing and Urban Development Reform Act of 1989, this announcement notifies the public of funding decisions made by the Department in competitions for funding under the Notices of Funding Availability (NOFAs) for the following programs: Fiscal Year (FY) 2017 Choice Neighborhoods Implementation; FY 2018 Lead Technical Studies and Healthy Homes Technical Studies Grant; FY 2018 Housing Counseling Training Grant; FY 2018 Comprehensive Housing Counseling Grant Program, and FY 2018 Choice Neighborhood Planning.

FOR FURTHER INFORMATION CONTACT: Office of Strategic Planning and Management, Grants Management and Oversight Division at AskGMO@hud.gov or the contact person listed in each appendix.

SUPPLEMENTARY INFORMATION: The FY 2017 Choice Neighborhoods Implementation competition was announced in a NOFA published on grants.gov on August 24, 2017 (FR-6100-N-34). The competition closed on November 22, 2017. Applications were rated and selected for funding based on selection criteria contained in the NOFA. HUD awarded $144,214,284 to 5 recipients to provide grants to support locally driven strategies that address struggling neighborhoods with distressed public or HUD-assisted housing through a comprehensive approach to neighborhood transformation. Local leaders, residents, and stakeholders, such as public housing authorities, cities, schools, police, business owners, nonprofits, and private developers, came together to create and implement a plan that revitalizes distressed HUD housing and addresses the challenges in the surrounding neighborhood. The program helps communities transform neighborhoods by revitalizing severely distressed public and/or assisted housing and catalyzing critical improvements in the neighborhood, including vacant property, housing, businesses, services and schools.

The FY 2018 Lead Technical Studies Grant competition was announced in the NOFA published on grants.gov on May 10, 2018 (FR-6200-N-15). The competition closed on June 13, 2018, for Pre-Applications and on August 20, 2018, for Full Applications. Applications were rated and selected for funding based on selection criteria contained in the NOFA. HUD awarded $1,946,741 to 3 recipients to gain knowledge to improve the efficacy and cost-effectiveness of methods for evaluation and control of residential lead-based paint hazards. The FY 2018 Healthy Homes Technical Studies Grant competition was announced in the NOFA published on grants.gov on May 10, 2018 (FR-6200-N-15). The competition closed on June 13, 2018, for Pre-Applications and August 20, 2018, for Full Applications. Applications were rated and selected for funding based on selection criteria contained in the NOFA. HUD awarded $4,771,419 to 5 recipients to advance the recognition and control of priority residential health and safety hazards and more closely examine the link between housing and health.

The FY 2018 Housing Counseling Training Grant competition was announced in the NOFA published on grants.gov on August 01, 2018 (FR-6200-N-30). The competition closed on August 31, 2018. Applications were rated and selected for funding based on selection criteria contained in the NOFA. HUD awarded $3,500,000 to 4 recipients to continue investing in the creation and maintenance of a professional and effective housing counseling industry that can meaningfully assist consumers by providing them with the information they need to make informed housing choices and maximizes the impact of Federal funding appropriated for HUD's Housing Counseling Program.

The FY 2018 Comprehensive Housing Counseling Grant Program competition was announced in the NOFA published on grants.gov on July 03, 2018 (FR-6200-N-33). The competition closed on August 07, 2018. Applications were rated and selected for funding based on selection criteria contained in the NOFA. HUD awarded $46,631,397 to 207 recipients to provide funds that shall be used for providing counseling and advice to tenants and homeowners with respect to property maintenance, financial management and literacy, and such other matters as may be appropriate to assist program clients improve their housing conditions, meet financial needs and fulfill the responsibilities of tenancy or homeownership. Funding is intended to support HUD-approved housing counseling agencies to respond flexibly to the needs of residents and neighborhoods and deliver a wide variety of housing counseling services to homebuyers, homeowners, renters, and the homeless. property maintenance, financial management and literacy, and such other matters as may be appropriate to assist program clients improve their housing conditions, meet financial needs and fulfill the responsibilities of tenancy or homeownership.

The FY 2018 Choice Neighborhoods Planning competition was announced in the NOFA published on grants.gov on April 10, 2018 (FR-6200-N-38). The competition closed on June 12, 2018. Applications were rated and selected for funding based on selection criteria contained in the NOFA. HUD awarded $4, 950,000 to 6 recipients to resources to address three core goals: Housing, People and Neighborhoods. To achieve these core goals, communities must develop and implement a comprehensive neighborhood revitalization strategy, or Transformation Plan. The Transformation Plan will become the guiding document for the revitalization of the public and/or assisted housing units while simultaneously directing the transformation of the surrounding neighborhood and positive outcomes for families.

In accordance with section 102(a)(4)(C) of the Department of Housing and Urban Development Reform Act of 1989 (103 Stat. 1987, 42 U.S.C. 3545(a)(4)(C)), the Department is publishing the awardees and the amounts of the awards in Appendices A-F to this document.

Dated: December 3, 2018.
Christopher Walsh,
Director, Grants Management & Oversight.

Appendix A

FY2017 Choice Neighborhoods Implementation Grants

Contact: Mindy Turbov, (202) 402-4191.

Lead grantee | Address | City | State | ZIP code | Amount
City of Flint | 1101 S Saginaw St | Flint | MI | 48502 | $30,000,000
City of Phoenix | 251 W Washington Street, 4th Floor | Phoenix | AZ | 85003 | 30,000,000
Housing Authority of the City of Baltimore | 417 East Fayette Street, Suite 1339 | Baltimore | MD | 21202 | 30,000,000
City of Shreveport | 505 Travis Street | Shreveport | LA | 71101 | 24,214,284
Housing Authority of the City of Tulsa | 415 E Independence St | Tulsa | OK | 74106 | 30,000,000
Total |  |  | ......... |  | 144,214,284

Appendix B

FY2018 Lead Technical Studies and Healthy Homes Technical Studies Grant

Contact: Dr. Peter J. Ashley (202) 402-7595.

Lead Technical Studies
Organization name | Address | City | State | Zip | Award
The University of Texas at El Paso—College of Health Sciences | 500 W University Ave | El Paso | TX | 79968 | $699,911
National Center for Healthy Housing, Inc | 10320 Little Patuxent Pkwy | Columbia | MD | 21044 | 596,830
National Center for Healthy Housing, Inc | 10320 Little Patuxent Pkwy | Columbia | MD | 21044 | 650,000
Total |  |  | ......... |  | 1,946,741

Healthy Homes Technical Studies
Organization name | Address | City | State | Zip | Award
Massachusetts Department of Public Health | 250 Washington Street | Boston | MA | 02108 | $1,000,000
The Trustees of Columbia University in the City of New York—Environmental Health Sciences | 630 West 168th Street | New York | NY | 10032 | 991,572
President and Fellows of Harvard College—Harvard T H Chan School of Public Health | 677 Huntington Avenue | Boston | MA | 02115 | 999,912
Tufts University—School of Engineering | 136 Harrison Avenue | Boston | MA | 02111 | 779,935
Baylor College of Medicine | One Baylor Plaza | Houston | TX | 77030 | 1,000,000
Total |  |  | ......... |  | 4,771,419

Appendix C

FY2018 Housing Counseling Training Grant

Contact: Tom Hardy (313) 234-7443.

Grantee name | Address | City | State | ZIP | Amount
UNIDOS US | 1126 16th Street NW, Suite 600 | Washington | DC | 20036-4845 | $802,031.00
RURAL COMMUNITY ASSISTANCE CORPORATION | 3120 Freeboard Drive, Suite 201 | West Sacramento | CA | 95691-5039 | 504,100.00
NATIONAL COMMUNITY REINVESTMENT COALITION, INC | 740 15th St. NW, Suite 400 | Washington | DC | 20005-1019 | 1,129,758.00
NEIGHBORHOOD REINVESTMENT CORP. DBA NEIGHBORWORKS AMERICA | 999 North Capital Street NE, Suite 900 | Washington | DC | 20002-4684 | 1,064,111.00
Total |  |  | ......... |  | 3,500,000.00

Appendix D

FY2018 Comprehensive Housing Counseling Grant Program

Contact: Connie Barton 617-994-8521.

Grantee name | Address | City | State | Zip | Amount
COMMUNITY ACTION PARTNERSHIP OF NORTH ALABAMA, INC | 1909 Central Pkwy. SW | Decatur | AL | 35601-6822 | $21,239.00
COMMUNITY ACTION PARTNERSHIP, HUNTSVILLE/MADISON & LIMESTONE COUNTIES, INC | 3516 Stringfield Rd. NW | Huntsville | AL | 35810-1758 | 22,883.00
ORGANIZED COMMUNITY ACTION PROGRAM, INC | 507 N 3 Notch St | Troy | AL | 36081-2120 | 24,837.00
HOUSING AUTHORITY OF THE CITY OF PRICHARD | 200 W Prichard Avenue | Prichard | AL | 36610 | 26,215.00
COMMUNITY ACTION AGENCY OF NORTHWEST ALABAMA, INC | 745 Thompson St | Florence | AL | 35630-3867 | 26,215.00
COMMUNITY SERVICE PROGRAMS OF WEST ALABAMA, INC | 601 Black Bears Way | Tuscaloosa | AL | 35401-4807 | 32,322.00
UNITED WAY OF CENTRAL ALABAMA, INC | 3600 8th Avenue | Birmingham | AL | 35222-3250 | 407,964.00
MISSISSIPPI COUNTY, ARKANSAS ECONOMIC OPPORTUNITY COMMISSION, INC | 1400 North Division Street | Blytheville | AR | 72315-1438 | 16,798.00
NORTHWEST REGIONAL HOUSING AUTHORITY | 114 Sisco Ave | Harrison | AR | 72601-2130 | 21,239.00
SOUTHERN BANCORP COMMUNITY PARTNERS | 8924 Kanis Rd | Little Rock | AR | 72205-6414 | 29,546.00
UNIVERSAL HOUSING DEVELOPMENT CORPORATION | 301 E 3rd St | Russellville | AR | 72801-5109 | 31,767.00
IN AFFORDABLE HOUSING, INCORPORATED | 108 S Rodney Parham Rd | Little Rock | AR | 72205-4708 | 40,431.00
NEWTOWN COMMUNITY DEVELOPMENT CORPORATION | 511 W University Dr., Ste 4 | Tempe | AZ | 85281-5585 | 27,058.00
COMMUNITY SERVICES AND EMPLOYMENT TRAINING, INC. (CSET) | 312 NW 3rd Avenue | Visalia | CA | 93291-3626 | 19,573.00
CITY OF VACAVILLE DEPARTMENT OF HOUSING SERVICES | 40 Eldridge Avenue, Suite 2 | Vacaville | CA | 95688-6824 | 21,239.00
ORANGE COUNTY FAIR HOUSING COUNCIL, INC | 1516 Brookhollow Drive, Suite A | Santa Ana | CA | 92705-5426 | 22,595.00
FAIR HOUSING ADVOCATES OF NORTHERN CALIFORNIA | 1314 Lincoln Ave | San Rafael | CA | 94901-2105 | 31,767.00
ASIAN INCORPORATED | 1167 Mission Street, 4th Floor | San Francisco | CA | 94103-1544 | 33,966.00
FAIR HOUSING COUNCIL OF RIVERSIDE COUNTY, INC | 4164 Brockton Avenue | Riverside | CA | 92501-3400 | 38,942.00
PROJECT SENTINEL | 554 Valley Way | Milpitas | CA | 95035-4106 | 69,728.00
CREDIT.ORG | 4351 Latham St | Riverside | CA | 92501-1749 | 332,228.00
CONSUMER CREDIT COUNSELING SERVICES OF SAN FRANCISCO D/B/A BALANCE | 1655 Grant Street, Suite 1300 | Concord | CA | 94520-2600 | 767,514.00
RURAL COMMUNITY ASSISTANCE CORPORATION | 3120 Freeboard Drive, Suite 201 | West Sacramento | CA | 95691-5039 | 832,841.00
NATIONAL ASSOCIATION OF REAL ESTATE BROKERS-INVESTMENT DIVISION, INC | 7677 OakPort Street, Suite 1030, 10th Fl | Oakland | CA | 94621-1929 | 1,204,160.00
COMMUNITY RENEWAL TEAM, INC | 330 Market Street | Hartford | CT | 06120-2901 | 17,352.00
CONNECTICUT HOUSING FINANCE AUTHORITY | 999 West Street | Rocky Hill | CT | 06067-3011 | 182,806.00
MARSHALL HEIGHTS COMMUNITY DEVELOPMENT ORGANIZATION | 3939 Benning Road NE | Washington | DC | 20019-3402 | 25,948.00
HOUSING COUNSELING SERVICES, INCORPORATED | 2410 17th St. NW, Ste 100 | Washington | DC | 20009-2724 | 87,539.00
NATIONAL CAPACD | 1628 16th Street NW, 4th Floor | Washington | DC | 20009-3064 | 703,606.00
NATIONAL COMMUNITY REINVESTMENT COALITION, INC | 740 15th St. NW, Suite 400 | Washington | DC | 20005-1019 | 1,023,312.00
NATIONAL FOUNDATION FOR CREDIT COUNSELING, INC | 2000 M St. NW, Suite 505 | Washington | DC | 20036-3307 | 1,153,659.00
UNIDOS US | 1126 16th Street NW, Suite 600 | Washington | DC | 20036-4845 | 1,789,473.00
NEIGHBORHOOD REINVESTMENT CORP. DBA NEIGHBORWORKS AMERICA | 999 North Capitol Street NE, Suite 900 | Washington | DC | 20002-4684 | 3,000,000.00
COMMUNITY ENTERPRISE INVESTMENTS, INCORPORATED | 302 North Barcelona St | Pensacola | FL | 32501-4806 | 16,798.00
THE AGRICULTURE AND LABOR PROGRAM, INC | 300 Lynchburg Rd | Winter Haven | FL | 33850-2576 | 17,908.00
BRIGHT COMMUNITY TRUST, INC | 2605 Enterprise Road E, Suite 230 | Clearwater | FL | 33759-1067 | 19,840.00
COMMUNITY SOLUTIONS 360, INC | 8466 Lockwood Ridge Road Suite 157 | Sarasota | FL | 34243-2951 | 22,616.00
ADOPT A HURRICANE FAMILY, INC. DBA CRISIS HOUSING SOLUTIONS | 4700 SW 64th Avenue—Suite C | Davie | FL | 33314-4433 | 23,706.00
HOME OWNERSHIP RESOURCE CENTER OF LEE COUNTY | 2915 Colonial Blvd., Ste 200 | Fort Myers | FL | 33966-1009 | 24,282.00
BROWARD COUNTY HOUSING AUTHORITY | 4780 N State Road 7 | Lauderdale Lakes | FL | 33319-5860 | 24,837.00
TALLAHASSEE URBAN LEAGUE, INC | 923 Old Bainbridge Rd | Tallahassee | FL | 32303-6042 | 24,837.00
COMPREHENSIVE HOUSING RESOURCES, INC | 21450 Gibralter Dr., Ste 1 | Port Charlotte | FL | 33952-5417 | 25,104.00
WEST PALM BEACH HOUSING AUTHORITY | 1715 Division Ave | West Palm Beach | FL | 33407-6284 | 26,503.00
OPA-LOCKA COMMUNITY DEVELOPMENT CORPORATION | 490 Opa Locka Blvd | Opa Locka | FL | 33054-3563 | 27,325.00
MID-FLORIDA HOUSING PARTNERSHIP, INC | 1834 Mason Ave | Daytona Beach | FL | 32117-5101 | 28,435.00
COMMUNITY HOUSING INITIATIVE, INC | 3033 College Wood Dr | Melbourne | FL | 32934-8324 | 30,101.00
AFFORDABLE HOMEOWNERSHIP FOUNDATION INC | 5264 Clayton Ct., Ste 1 | Fort Myers | FL | 33907-2112 | 30,280.00
JACKSONVILLE AREA LEGAL AID, INC | 126 W Adams St | Jacksonville | FL | 32202-3849 | 1,212.00
TAMPA BAY COMMUNITY DEVELOPMENT CORPORATION | 2139 NE Coachman Rd., Suite 1 | Clearwater | FL | 33765-2612 | 33,878.00
SOLITA'S HOUSE INC | 3101 E 7th Ave | Tampa | FL | 33605-4207 | 34,255.00
OCALA HOUSING AUTHORITY | 1629 NW 4th St | Ocala | FL | 34475-6051 | 40,298.00
CONSOLIDATED CREDIT SOLUTIONS, INC | 5701 W Sunrise Blvd | Plantation | FL | 33313-6269 | 90,038.00
DEBT MANAGEMENT CREDIT COUNSELING CORP | 3310 N Federal Highway | Lighthouse Point | FL | 33064-6742 | 112,136.00
CREDIT CARD MGMT SVCS, INC D/B/A DEBTHELPER.COM | 1325 N Congress Ave. #201 | West Palm Beach | FL | 33401-2005 | 219,442.00
AREA COMMITTEE TO IMPROVE OPPORTUNITIES NOW, INC | 2440 West Broad Street, Suite 9 | Athens | GA | 30606-3429 | 20,128.00
AFFORDABLE HOUSING ENTERPRISES, INC | 210 South 13th Street | Griffin | GA | 30224-2704 | 21,506.00
APPALACHIAN HOUSING AND REDEVELOPMENT CORPORATION | 800 Avenue B | Rome | GA | 30165-2714 | 24,015.00
REFUGEE FAMILY ASSISTANCE PROGRAM | 5405 Memorial Drive, Suite 101 | Stone Mountain | GA | 30083-3234 | 32,412.00
OPERATION HOPE, INC | 191 PEACHTREE ST. NE, Suite 3840 | Atlanta | GA | 30303-1740 | 510,990.00
GEORGIA HOUSING AND FINANCE AUTHORITY | 60 Executive Park South NE | Atlanta | GA | 30329-2296 | 627,524.00
HALE MAHAOLU HOMEOWNERSHIP/HOUSING COUNSELING | 615 West Papa Ave | Kahului | HI | 96732-2500 | 26,682.00
EASTERN IOWA REGIONAL HOUSING AUTHORITY | 7600 Commerce Park | Dubuque | IA | 52002-9673 | 19,018.00
HOME OPPORTUNITIES MADE EASY, INC. (HOME, INC.) | 1618 6th Avenue | Des Moines | IA | 50314-3301 | 20,395.00
MUSCATINE MUNICIPAL HOUSING AGENCY | 215 Sycamore St | Muscatine | IA | 52761-3839 | 24,570.00
FAMILY MANAGEMENT FINANCIAL SOLUTIONS, INC | 359 Rock Island Ave | Waterloo | IA | 50701-5301 | 40,104.00
CENTER FOR SIOUXLAND | 715 Douglas St | Sioux City | IA | 51101-1021 | 45,924.00
IDAHO HOUSING AND FINANCE ASSOCIATION | 565 West Myrtle | Boise | ID | 83702-7675 | 93,464.00
SPRINGFIELD HOUSING AUTHORITY | 200 N 11th St | Springfield | IL | 62703-1004 | 17,352.00
MACOUPIN COUNTY HOUSING AUTHORITY | 760 Anderson Street | Carlinville | IL | 62626-1003 | 22,349.00
LAKE COUNTY HOUSING AUTHORITY | 33928 N US Highway 45 | Grayslake | IL | 60030-1714 | 26,791.00
WILL COUNTY CENTER FOR COMMUNITY CONCERNS | 2455 Glenwood Ave | Joliet | IL | 60435-5464 | 44,753.00
HOUSING ACTION ILLINOIS | 67 E Madison Street, Suite 1603 | Chicago | IL | 60603-3014 | 1,259,176.00
CITY OF BLOOMINGTON—HOUSING AND NEIGHBORHOOD DEVELOPMENT (HAND) | 401 N Morton Street | Bloomington | IN | 47404-3729 | 10,000.00
LINCOLN HILLS DEVELOPMENT CORPORATION | 302 Main St | Tell City | IN | 47586-2207 | 22,905.00
HOOSIER UPLANDS ECONOMIC DEVELOPMENT CORPORATION | 500 W Main St | Mitchell | IN | 47446-1411 | 25,948.00
INDIANA HOUSING AND COMMUNITY DEVELOPMENT AUTHORITY | 30 South Meridian Street, Ste 1000 | Indianapolis | IN | 46204-3565 | 130,079.00
LIVE THE DREAM DEVELOPMENT, INC | 247 Double Springs Rd | Bowling Green | KY | 42101-5160 | 17,352.00
CAMPBELLSVILLE HOUSING AND REDEVELOPMENT AUTHORITY | 400 Ingram Ave | Campbellsville | KY | 42718-1627 | 23,460.00
KCEOC COMMUNITY ACTION PARTNERSHIP, INC | 5448 N US Highway 25E | Gray | KY | 40734-6582 | 24,837.00
HOUSING ASSISTANCE AND DEVELOPMENT SERVICES, INC | 215 E 12th Ave | Bowling Green | KY | 42101-3403 | 30,192.00
KENTUCKY HOUSING CORPORATION | 1231 Louisville Rd | Frankfort | KY | 40601-6156 | 318,588.00
LOUISIANA HOUSING CORPORATION | 2415 Quail Drive | Baton Rouge | LA | 70808-0120 | 579,800.00
SPRINGFIELD PARTNERS FOR COMMUNITY ACTION | 721 State Street, 2nd Floor | Springfield | MA | 01109-4109 | 24,015.00
ACTION FOR BOSTON COMMUNITY DEVELOPMENT, INC | 178 Tremont St | Boston | MA | 02111-1006 | 24,282.00
RCAP SOLUTIONS, INC | 12 E Worcester St | Worcester | MA | 01604-3612 | 25,392.00
PRO-HOME, INC | 40 Summer Street | Taunton | MA | 02780-3420 | 25,948.00
COMMUNITY SERVICE NETWORK, INC | 136 Elm Street | Stoneham | MA | 02180-3426 | 28,287.00
CATHOLIC SOCIAL SERVICES—FALL RIVER | 1600 Bay St | Fall River | MA | 02724-1216 | 47,353.00
CITIZENS' HOUSING AND PLANNING ASSOCIATION, INC | 18 Tremont Street, Suite 401 | Boston | MA | 02108-2301 | 674,066.00
THE HOUSING PARTNERSHIP NETWORK | 1 Washington Mall, 12th Fl | Boston | MA | 02108-2603 | 720,390.00
NEIGHBORHOOD STABILIZATION CORPORATION (NACA COUNSELING SUBSIDIARY) | 225 Centre Street, Suite 100 | Boston | MA | 02119-1298 | 1,946,309.00
GARWYN OAKS NORTHWEST HOUSING RESOURCE CENTER, INC | 2300 Garrison Blvd., Suite 140 | Baltimore | MD | 21216-2335 | 17,352.00
COMPREHENSIVE HOUSING ASSISTANCE, INC | 5809 Park Heights Avenue | Baltimore | MD | 21215-3931 | 18,175.00
ALLEGANY COUNTY HUMAN RESOURCES DEVELOPMENT COMMISSION, INC | 125 Virginia Ave | Cumberland | MD | 21502-3952 | 19,018.00
DIVERSIFIED HOUSING DEVELOPMENT, INC | 8025 Liberty Rd | Windsor Mill | MD | 21244-2966 | 20,000.00
ARUNDEL COMMUNITY DEVELOPMENT SERVICE INC | 2666 Riva Road, Suite 210 | Annapolis | MD | 21401-7345 | 27,037.00
SHORE UP!, INC | 520 Snow Hill Rd | Salisbury | MD | 21804-6031 | 27,356.00
WASHINGTON COUNTY COMMUNITY ACTION COUNCIL (WCCAC) | 117 Summit Ave | Hagerstown | MD | 21740-5508 | 27,732.00
HAGERSTOWN NEIGHBORHOOD DEVELOPMENT PARTNERSHIP, INC. (HNDP) | 21 E Franklin St | Hagerstown | MD | 21740-4914 | 30,389.00
HOME PARTNERSHIP, INC. (HPI) | 626 Towne Center Dr., Suite 102 | Joppa | MD | 21085-4446 | 31,123.00
SOUTHERN MARYLAND TRI-COUNTY COMMUNITY ACTION | 8383 Old Leonardtown Road | Hughesville | MD | 20637 | 32,996.00
FREDERICK COMMUNITY ACTION AGENCY | 100 S Market St | Frederick | MD | 21701-5527 | 37,993.00
HARFORD COUNTY HOUSING AGENCY | 15 S Main St., Ste 106 | Bel Air | MD | 21014-8723 | 43,436.00
HOUSING INITIATIVE PARTNERSHIP, INC. (HIP) | 6525 Belcrest Road, Suite 555 | Hyattsville | MD | 20782-2003 | 55,766.00
CENTRO DE APOYO FAMILIAR—CENTER FOR ASSISTANCE FAMILLIES | 6801 Kenilworth Ave | Riverdale | MD | 20737-1331 | 90,618.00
GUIDEWELL FINANCIAL SOLUTIONS, INC | 757 Frederick Rd., 2nd Floor | Baltimore | MD | 21228-4500 | 398,200.00
HOMEFREE—U S A | 6200 Baltimore Avenue, 3rd Floor | Riverdale | MD | 20737-1054 | 1,952,955.00
MAINE STATE HOUSING AUTHORITY | 353 Water Street | Augusta | ME | 04330-4665 | 43,849.00
NEIGHBORHOODS INC. OF BATTLE CREEK | 47 Washington Ave. N | Battle Creek | MI | 49037-3025 | 19,840.00
BAY AREA HOUSING, INC D/B/A COMMUNITY HOME SOLUTIONS | 114 Washington Ave | Bay City | MI | 48708-5846 | 25,392.00
OAKLAND LIVINGSTON HUMAN SERVICE AGENCY | 196 Cesar E Chavez Ave | Pontiac | MI | 48342-1094 | 27,058.00
GRAND RAPIDS URBAN LEAGUE | 745 Eastern Ave SE | Grand Rapids | MI | 49503-5544 | 30,368.00
NORTHWEST MICHIGAN COMMUNITY ACTION AGENCY, INC | 3963 Three Mile Road, North | Traverse City | MI | 49686-9164 | 32,034.00
HOUSING SERVICES MID MICHIGAN (FORMERLY HOUSING SERVICES FOR EATON COUNTY) | 319 S Cochran Ave | Charlotte | MI | 48813-1555 | 33,699.00
COMMUNITY ACTION AGENCY | 1214 Greenwood Ave | Jackson | MI | 49203-3037 | 38,875.00
OAKLAND COUNTY HOUSING COUNSELING | 250 Elizabeth Lake Rd., Ste 1900 | Pontiac | MI | 48341-1035 | 49,574.00
MICHIGAN STATE HOUSING DEVELOPMENT AUTHORITY | 735 E. Michigan Avenue | Lansing | MI | 48912-1474 | 650,000.00
GREENPATH, INC | 36500 Corporate Drive | Farmington Hills | MI | 48331-3553 | 2,340,846.00
CATHOLIC CHARITIES DIOCESE OF ST. CLOUD | 157 Roosevelt Rd., Ste 200 | Saint Cloud | MN | 56301-5485 | 28,168.00
SOUTHERN MINNESOTA REGIONAL LEGAL SERVICES, INC | 55 5th St. E, Ste 400 | Saint Paul | MN | 55101-1118 | 33,678.00
HOMEOWNERSHIP PRESERVATION FOUNDATION | 7645 Lyndale Ave. South, Suite 250 | Minneapolis | MN | 55423-4084 | 92,993.00
MINNESOTA HOMEOWNERSHIP CENTER | 1000 Payne Avenue, Suite 200 | Saint Paul | MN | 55130-3986 | 730,879.00
COMMUNITY SERVICES LEAGUE | 404 North Noland Road | Independence | MO | 64050-3057 | 32,301.00
YOUTH EDUCATION AND HEALTH IN SOULARD | 1924 S 12th St | Saint Louis | MO | 63104-3951 | 32,641.00
HOUSING OPTIONS PROVIDED FOR THE ELDERLY (HOPE) | 7300 Dartmouth Ave., Suite 100 | University City | MO | 63130-2904 | 219,242.00
COVENANT FAITH OUTREACH MINISTRIES—COVENANT COMMUNITY DEVELOPMENT CORPORATION | 813 Varsity Drive, Suite #11 | Tupelo | MS | 38801-4715 | 28,991.00
HOUSING EDUCATION AND ECONOMIC DEVELOPMENT, INC | 3405 Medgar Evers Blvd | Jackson | MS | 39213-6360 | 31,797.00
MISSISSIPPI HOMEBUYER EDUCATION CENTER-INITIATIVE | 350 West Woodrow Wilson, Suite 3480 | Jackson | MS | 39213-7681 | 208,332.00
MISSISSIPPI HOME CORPORATION | 735 Riverside Drive | Jackson | MS | 39202-1166 | 297,491.00
MONTANA HOMEOWNERSHIP NETWORK DBA NEIGHBORWORKS MONTANA | 509 1st Ave. S | Great Falls | MT | 59401-3604 | 434,246.00
FRANKLIN-VANCE-WARREN OPPORTUNITY, INC | 180 South Beckford Drive | Henderson | NC | 27536-2584 | 17,908.00
CHATHAM COUNTY HOUSING AUTHORITY | 13450 US Hwy 64 West | Siler City | NC | 27344-6443 | 22,905.00
HOUSING AUTHORITY OF THE CITY OF HIGH POINT | 500 E Russell Ave | High Point | NC | 27260-6746 | 27,613.00
TWIN RIVERS OPPORTUNITIES, INC | 318 Craven St | New Bern | NC | 28560-4909 | 29,279.00
STATESVILLE HOUSING AUTHORITY | 110 W Allison St | Statesville | NC | 28677-6616 | 30,101.00
FOOTHILLS CREDIT COUNSELING, INC | 709 W Main St., SUITE A | Forest City | NC | 28043-2820 | 33,196.00
WESTERN PIEDMONT COUNCIL OF GOVERNMENTS | 1880 2nd Ave. NW | Hickory | NC | 28601-5766 | 45,635.00
NORTH CAROLINA HOUSING COALITION | 5800 Faringdon Place | Raleigh | NC | 27609-3930 | 705,501.00
TELAMON CORPORATION | 5560 Munford Road, Suite 109 | Raleigh | NC | 27612-2635 | 933,037.00
NORTH DAKOTA HOUSING FINANCE AGENCY | 2624 Vermont Avenue | Bismarck | ND | 58504-6803 | 102,345.00
BLUE VALLEY COMMUNITY ACTION PARTNERSHIP | 620 5th St | Fairbury | NE | 68352-2624 | 26,910.00
FAMILY HOUSING ADVISORY SERVICES, INC | 2401 Lake St | Council Bluffs | NE | 68111-3872 | 36,166.00
HIGH PLAINS COMMUNITY DEVELOPMENT CORPORATION | 803 E 3rd St., Ste 4 | Chadron | NE | 69337-2855 | 40,066.00
CREDIT ADVISORS FOUNDATION | 1818 S 72nd Street | Omaha | NE | 68124-1704 | 138,113.00
NEW HAMPSHIRE HOUSING FINANCE AUTHORITY | 32 Constitution Dr | Bedford | NH | 03110-6062 | 302,816.00
HUDSON COUNTY HOUSING RESOURCE CENTER, INC | 857 Bergen Aveue | Jersey City | NJ | 07306-4405 | 16,243.00
HOUSING AUTHORITY OF THE CITY OF PATERSON | 60 Van Houten St | Paterson | NJ | 07505-1028 | 24,570.00
SENIOR CITIZENS UNITED COMMUNITY SERVICES OF CAMDEN COUNTY, INC | 537 W Nicholson Rd | Audubon | NJ | 08106-1970 | 36,794.00
CONSUMER CREDIT AND BUDGET COUNSELING, DBA NATIONAL FOUNDATION FOR DEBT MANAGEMENT | 299 S Shore Rd. US Route 9 So | Marmora | NJ | 08223-1210 | 150,137.00
NEW JERSEY HOUSING AND MORTGAGE FINANCE AGENCY | 637 South Clinton Avenue | Trenton | NJ | 08611-1811 | 244,481.00
HOUSING & COMMUNITY DEVELOPMENT NETWORK OF NEW JERSEY | 145 West Hanover Street | Trenton | NJ | 08618-4823 | 305,013.00
GARDEN STATE CONSUMER CREDIT COUNSELING, INC. D/B/A/NAVICORE SOLUTIONS | 200 U.S. Highway 9 North | Manalapan | NJ | 07726-3072 | 483,426.00
CENTER FOR NEW YORK CITY NEIGHBORHOODS | 17 Battery Place, Suite 728 | New York | NY | 10004-1207 | 16,243.00
STRYCKER'S BAY NEIGHBORHOOD COUNCIL, INC | 696 Amsterdam Avenue | New York | NY | 10025-6901 | 16,798.00
NIAGARA FALLS NEIGHBORHOOD HOUSING SERVICES | 479 16th St | Niagara Falls | NY | 14303-1636 | 27,346.00
GREATER SHEEPSHEAD BAY DEVELOPMENT CORPORATION | 2107 E 22nd St | Brooklyn | NY | 11229-3641 | 28,754.00
ALLEGANY COUNTY COMMUNITY OPPORTUNITIES AND RURAL DEVELOPMENT (ACCORD) CORP | 84 Schuyler St | Belmont | NY | 14813-1051 | 33,411.00
NEW YORK MORTGAGE COALITION | 85 Broad Street, 17th Floor | New York | NY | 10004-2434 | 474,577.00
PATHSTONE CORPORATION | 400 East Avenue | Rochester | NY | 14607-1910 | 488,334.00
NEW YORK STATE HOUSING FINANCE AGENCY | 38-40 State Street, 4th Floor | Albany | NY | 12207-2837 | 882,051.00
NATIONAL URBAN LEAGUE | 80 Pine St., 9th Floor | New York | NY | 10005-1720 | 1,114,060.00
YOUNGSTOWN METROPOLITAN HOUSING AUTHORITY | 131 W Boardman St | Youngstown | OH | 44503-1337 | 19,018.00
WEST OHIO COMMUNITY ACTION PARTNERSHIP | 540 S Central Ave | Lima | OH | 45804-1306 | 21,239.00
COMMUNITY HOUSING SOLUTIONS | 12114 Larchmere Blvd | Cleveland | OH | 44120-1139 | 24,282.00
YOUNGSTOWN NEIGHBORHOOD DEVELOPMENT CORP | 820 Canfield Road | Youngstown | OH | 44511-2345 | 24,282.00
WORKING IN NEIGHBORHOODS | 1814 Dreman Ave | Cincinnati | OH | 45223-2319 | 28,724.00
FAIR HOUSING RESOURCE CENTER | 1100 Mentor Ave | Painesville | OH | 44077-1832 | 33,411.00
FAIR HOUSING CONTACT SERVICE | 441 Wolf Ledges Pkwy., Ste 200 | Akron | OH | 44311-1038 | 37,905.00
COUNTYCORP | 130 W 2nd St., Ste 1420 | Dayton | OH | 45402-1502 | 45,508.00
WSOS COMMUNITY ACTION COMMISSION, INC | 109 S Front St | Fremont | OH | 43420-3021 | 53,883.00
COMMUNITY DEVELOPMENT SUPPORT ASSOCIATION | 114 S Independence St | Enid | OK | 73701-5624 | 20,128.00
HOUSING PARTNERS OF TULSA, INCORPORATED | 415 E Independence Street | Tulsa | OK | 74106-5727 | 25,104.00
HOUSING AUTHORITY OF THE CHOCTAW NATION OF OKLAHOMA | 207 Jim Monroe Rd | Hugo | OK | 74743-5621 | 28,414.00
QUICKCERT, INC | 7122 S Sheridan Rd., Ste 2-533 | Tulsa | OK | 74133-2748 | 172,433.00
HOUSING AUTHORITY OF YAMHILL COUNTY | 135 NE Dunn Pl | Mcminnville | OR | 97128-9081 | 20,951.00
COMMUNITY CONNECTION OF NORTHEAST OREGON, INC | 2802 Adams Ave | La Grande | OR | 97850-5267 | 24,570.00
OPEN DOOR COUNSELING CENTER | 34420 SW Tualatin Valley Hwy | Hillsboro | OR | 97123-5470 | 52,772.00
INTERCOMMUNITY ACTION, INC. D/B/A INTERACT, JOURNEY'S WAY | 403 Rector St | Philadelphia | PA | 19128-3522 | 18,730.00
PENNSYLVANIA COMMUNITY REAL ESTATE CORP. D/B/A TENANT UNION REPRESENTATIVE NETWORK (T.U.R.N.) | 100 S Broad St., Ste 800 | Philadelphia | PA | 19110-1018 | 31,479.00
HISPANIC ASSOCIATION OF CONTRACTORS AND ENTERPRISES | 167 W Allegheny Ave., Ste 200 | Philadelphia | PA | 19140-5846 | 40,076.00
MON VALLEY INITIATIVE | 303-305 E 8th Avenue | Homestead | PA | 15120-1517 | 793,119.00
NUEVA ESPERANZA, INC | 4261 N 5th St | Philadelphia | PA | 19140-2615 | 796,035.00
PENNSYLVANIA HOUSING FINANCE AGENCY | 211 North Front Street | Harrisburg | PA | 17101-1406 | 2,455,579.00
PROVIDENCE HOUSING AUTHORITY | 50 Laurel Hill Ave | Providence | RI | 02909-4306 | 16,798.00
COMMUNITY DEVELOPMENT & IMPROVEMENT CORP | 100 Rogers Terrace | Graniteville | SC | 29801-3435 | 22,616.00
CHARLESTON TRIDENT URBAN LEAGUE, INC | 1064 Gardner Road Suite 216 | Charleston | SC | 29407-5768 | 27,058.00
SOUTHEASTERN HOUSING FOUNDATION | 986 Doyle Street | Orangeburg | SC | 29115-6087 | 27,901.00
BEAUFORT COUNTY BLACK CHAMBER OF COMMERCE | 801 Bladen Street | Beaufort | SC | 29902-4574 | 31,212.00
EASTERN EIGHT COMMUNITY DEVELOPMENT CORP | 214 East Watauga Avenue | Johnson City | TN | 37601-4630 | 19,840.00
CLINCH-POWELL RESOURCE CONSERVATION AND DEVELOPMENT COUNCIL, INC | 7995 Rutledge Pike | Rutledge | TN | 37861-3003 | 31,767.00
WEST TENNESSEE LEGAL SERVICES, INCORPORATED | 210 West Main Street | Jackson | TN | 38301-6114 | 796,050.00
AUSTIN HABITAT FOR HUMANITY | 500 W Ben White Blvd | Austin | TX | 78704-7030 | 16,798.00
WACO COMMUNITY DEVELOPMENT CORPORATION | 1624 Colcord Ave | Waco | TX | 76707-2246 | 25,948.00
CITY OF SAN ANTONIO/DEPARTMENT OF HUMAN SERVICES | 106 S. Saint Marys St, 7th Floor | San Antonio | TX | 78205-3601 | 26,770.00
DALLAS AREA HABITAT FOR HUMANITY | 2800 N Hampton Rd | Dallas | TX | 75212-5029 | 36,973.00
MONEY MANAGEMENT INTERNATIONAL INC | 14141 Southwest Fwy | Sugar Land | TX | 77478-3493 | 1,723,342.00
COMMUNITY ACTION SERVICES | 815 S Freedom Blvd., Ste 100 | Provo | UT | 84601-5817 | 24,570.00
UTAH STATE UNIVERSITY—FAMILY LIFE CENTER—HFC | 6435 Old Main Hill | Logan | UT | 84322-0001 | 39,015.00
CATHOLIC CHARITIES USA | 2050 Ballenger Avenue, Suite 400 | Alexandria | VA | 22314-6847 | 1,091,128.00
VIRGINIA HOUSING DEVELOPMENT AUTHORITY | 601 S Belvidere Street | Richmond | VA | 23220-6504 | 1,258,402.00
VIRGIN ISLANDS HOUSING FINANCE AUTHORITY | 3202 Demara Plaza, Suite 200 | St. Thomas | VI | 00802-6447 | 47,133.00
BENNINGTON-RUTLAND OPPORTUNITY COUNCIL, INC. (BROC) | 45 Union St | Rutland | VT | 05701-3956 | 33,123.00
WASHINGTON STATE HOUSING FINANCE COMMISSION | 1000 2nd Avenue, Suite 2700 | Seattle | WA | 98104-3601 | 758,194.00
MOVIN' OUT, INC | 902 Royster Oaks Drive, Ste 105 | Madison | WI | 53714-9101 | 33,432.00
TENANT RESOURCE CENTER | 1202 Williamson St., Ste 102 | Madison | WI | 53703-4806 | 36,679.00
SOUTHERN APPALACHIAN LABOR SCHOOL FOUNDATION, INC | 140 School Street | Kincaid | WV | 25901-2932 | 22,061.00
HOUSING AUTHORITY OF MINGO COUNTY | 5026 Helena Avenue | Delbarton | WV | 25670 | 23,727.00
Total |  |  |  |  | 46,631,397.00

Appendix E

FY2018 Choice Neighborhoods Planning Grants

Contact: Mindy Turbov, (202) 402-4191.

Lead grantee | Address | City | State | ZIP | Award amount
City of Tucson | 310 N Commerce Park Loop | Tucson | AZ | 85726-7210 | $1,300,000
Housing Authority of Baltimore City | 417 E Fayette Street | Baltimore | MD | 21202-4868 | 1,300,000
Marquette University | P.O. Box 1881 | Milwaukee | WI | 53201 | 1,300,000
Housing Authority of the City of Camden | 2021 Watson Street | Camden | NJ | 08105-1866 | 350,000
Housing Authority of the City of Phenix City | 200 16th Street | Phenix City | AL | 36867-1409 | 250,000
Urban Strategies, Inc | 720 Olive Street, Suite 2600 | St. Louis | MO | 63101-2313 | 350,000
Total |  |  | ......... |  | 4,850,000

[FR Doc. 2018-27349 Filed 12-17-18; 8:45 am]

BILLING CODE 4210-67-P